NUCLEAR REGULATORY COMMISSION

[NRC-2014-0116]

Reporting of H-3, C-14, Tc-99, and I-129 on the Uniform Waste Manifest

AGENCY: Nuclear Regulatory Commission.

ACTION: Draft regulatory issue summary; request for comment.

SUMMARY: The U.S. Nuclear Regulatory Commission (NRC) is seeking public comment on the draft regulatory issue summary (RIS), which addresses the reporting of H-3, C-14, Tc-99, and I-129 on the uniform waste manifest. The purpose of this draft RIS is to identify instances where licensees may use indirect methods to determine the activity of these radionuclides reported on the uniform manifest when the radionuclide is present at a concentration less than the lower limit of detection (LLD).

DATES: Submit comments by July 2, 2014. Comments received after this date will be considered if it is practical to do so, but the NRC is able to ensure consideration only for comments received before this date.

ADDRESSES: You may submit comments by any of the following methods (unless this document describes a different method for submitting comments on a specific subject):

• Federal Rulemaking Web site: Go to http://www.regulations.gov and search for Docket ID NRC-2014-0116. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on accessing information and submitting comments, see “Accessing Information and Submitting Comments” in the SUPPLEMENTARY INFORMATION section of this document.

FOR FURTHER INFORMATION CONTACT: Don Lowman, Office of Federal and State Materials and Environmental Management Programs, U.S. Nuclear Regulatory Commission, Washington, DC 20555-0001, telephone: 301-415-5452, email: Donald.Lowman@nrc.gov.

SUPPLEMENTARY INFORMATION:

I. Accessing Information and Submitting Comments

A. Accessing Information

Additional background information and supporting documentation for this draft RIS can be found at: http://www.nrc.gov/waste/llw-disposal/llw-pa/llw-uwm.html.

Please refer to Docket ID NRC-2014-0116 when contacting the NRC about the availability of information regarding this document. You may access publicly-available information related to this document by any of the following methods:

• Federal Rulemaking Web site: Go to http://www.regulations.gov and search for Docket ID NRC-2014-0116.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft RIS, “Reporting of H-3, C-14, Tc-99, and I-129 on the Uniform Waste Manifest,” is available in ADAMS under accession number ML14098A283.

• NRC's PDR: You may examine and purchase copies of public documents at the NRC's PDR, Room O1-F21, One White Flint North, 11555 Rockville Pike, Rockville, Maryland 20852.

B. Submitting Comments

Please include Docket ID NRC-2014-0116 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC issues RISs to communicate with stakeholders on a broad range of matters. This may include communicating staff technical positions on matters that have not been communicated to, or are not broadly understood by, the nuclear industry.

The NRC is issuing this draft RIS to inform addressees of the option to use indirect methods to determine the activity of H-3, C-14, Tc-99, and I-129 reported on the uniform waste manifest when the radionuclide is present at a concentration less than the lower limit of detection (LLD). Research indicates that the use of the LLD values as the standard concentration reported on the uniform waste manifest may be resulting in a significant over-estimation of the inventory of these four radionuclides in disposal facilities. Over-estimation of inventory could lead to premature loss of disposal system capacity (e.g., closure of disposal sites), whereas underestimation of inventory could lead to health and safety concerns.

The NRC is requesting public comments on the draft RIS. The NRC staff will make a final determination regarding issuance of the RIS after it considers any public comments received in response to this request.

Dated at Rockville, Maryland, this 23rd day of May 2014.
For the Nuclear Regulatory Commission.
Larry W. Camper,
Director, Division of Waste Management and Environmental Protection, Office of Federal and State Materials and Environmental Management Programs.

[FR Doc. 2014-12720 Filed 5-30-14; 8:45 am]

BILLING CODE 7590-01-P